INTERNATIONAL TRADE COMMISSION

[Investigation No. 337-TA-1259]

Notice of Commission Determination Not To Review an Initial Determination Granting Complainants' Motion for Leave To Amend the Complaint and Notice of Investigation; Certain Toner Supply Containers and Components Thereof (I)

AGENCY: U.S. International Trade Commission.

ACTION: Notice.

SUMMARY: Notice is hereby given that the U.S. International Trade Commission has determined not to review an initial determination (“ID”) (Order No. 5) of the presiding administrative law judge (“ALJ”) granting the complainants' motion for leave to amend the complaint and notice of investigation.

FOR FURTHER INFORMATION CONTACT: Lynde Herzbach, Office of the General Counsel, U.S. International Trade Commission, 500 E Street SW, Washington, DC 20436, telephone (202) 205-3228. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: On April 13, 2021, the Commission instituted this investigation under section 337 of the Tariff Act of 1930, as amended, 19 U.S.C. 1337 (“section 337”), based on a complaint filed by Canon Inc. of Japan; Canon U.S.A., Inc. of Melville, New York; and Canon Virginia, Inc. of Newport News, Virginia (collectively, “Complainants”). See 86 FR 19284-86. The complaint, as supplemented, alleges a violation of section 337 based upon the importation into the United States, sale for importation, or sale after importation into the United States of certain toner supply containers and components thereof by reason of infringement of certain claims of U.S. Patent Nos. 10,209,667 (“the ’667 patent”); 10,289,060 (“the ’060 patent”); 10,289,061 (“the ’061 patent”); 10,295,957 (“the ’957 patent”); 10,488,814 (“the ’814 patent”); 10,496,032 (“the ’032 patent”); 10,496,033 (“the ’033 patent”); 10,514,654 (“the ’654 patent”); 10,520,881 (“the ’881 patent”); 10,520,882 (“the ’882 patent”); 8,565,649; 9,354,551; and 9,753,402. Id. The complaint further alleges that a domestic industry exists. Id. The notice of investigation names twenty-six respondents, including Do It Wiser, LLC d/b/a Image Toner of Wilmington, Delaware. Id. At institution, the Commission severed the investigation into two investigations. The present investigation was instituted to determine whether there is a violation of section 337 in the importation, sale for importation, or sale within the United States after importation of toner supply containers and components thereof by reason of infringement of claims 1, 3, 6-8, and 11 of the ’667 patent; claims 1, 2, and 6-8 of the ’060 patent; claims 1-3, 6-8, and 11 of the ’061 patent; claims 1, 2, 4, 7-9 and 12 of the ’957 patent; claims 1, 4, 7-9, and 12 of the ’814 patent; claims 1, 4, 7-9, 12, 50, 53, 56-58, and 61 of the ’032 patent; claims 1, 5, 8-10, 13, 14, 18, 21-23, and 26 of the ’033 patent; claims 1, 3-5, 46, and 48-50 of the ’654 patent; claims 1, 5, 8-10, and 13 of the ’881 patent; and claims 1 and 6-8 of the ’882 patent. Id. The Office of Unfair Import Investigations is also a party to the investigation. Id.

On April 27, 2021, Complainants filed an unopposed motion seeking leave to file an amended complaint and notice of investigation to correct the name of originally-identified respondent, “Do It Wiser, LLC d/b/a Image Toner,” to “Do It Wiser, Inc. d/b/a Image Toner.” No responses to the motion were filed.

On May 13, 2021, the ALJ issued the subject ID (Order No. 5) granting Complainants' motion for leave to amend the complaint and notice of investigation. Order No. 5 (May 13, 2021). The subject ID finds that Complainants' motion is supported by good cause pursuant to Commission Rule 210.14(b) (19 CFR 210.14(b)) and that there is no prejudice to any party if the motion is granted. No party petitioned for review of the subject ID.

The Commission has determined not to review the subject ID. The name of respondent “Do It Wiser, LLC d/b/a Image Toner” is corrected to “Do It Wiser, Inc. d/b/a Image Toner.”

The Commission vote for this determination took place on May 25, 2021.

While temporary remote operating procedures are in place in response to COVID-19, the Office of the Secretary is not able to serve parties that have not retained counsel or otherwise provided a point of contact for electronic service. Accordingly, pursuant to Commission Rules 201.16(a) and 210.7(a)(1) (19 CFR 201.16(a), 210.7(a)(1)), the Commission orders that the complainant complete service for any party/parties without a method of electronic service noted on the attached Certificate of Service and shall file proof of service on the Electronic Document Information System (EDIS).

The authority for the Commission's determination is contained in section 337 of the Tariff Act of 1930, as amended (19 U.S.C. 1337), and in Part 210 of the Commission's Rules of Practice and Procedure (19 CFR part 210).

By order of the Commission.
Issued: May 25, 2021.
Lisa Barton,
Secretary to the Commission.

[FR Doc. 2021-11389 Filed 5-28-21; 8:45 am]

BILLING CODE 7020-02-P